DEPARTMENT OF THE INTERIOR

Bureau of Indian Affairs

Indian Gaming

AGENCY: Bureau of Indian Affairs, Interior.

ACTION: Notice of approved Class III Gaming Compact.

SUMMARY: This notice publishes the approval of the Class III Gaming Compact between the State of New Mexico and the Navajo Nation. Under the Indian Gaming Regulatory Act of 1988, the Secretary of the Interior is required to publish notice in the Federal Register approved Tribal-State compacts for the purpose of engaging in Class III gaming activities on Indian lands.

EFFECTIVE DATE: January 16, 2004.

FOR FURTHER INFORMATION CONTACT: George T. Skibine, Director, Office of Indian Gaming Management, Office of the Deputy Assistant Secretary—Policy and Economic Development, Washington, DC 20240, (202) 219-4066.

SUPPLEMENTARY INFORMATION: Under Section 11 of the Indian Gaming Regulatory Act of 1988 (IGRA) Pub. L. 100-497, 25 U.S.C. § 2710, the Secretary of the Interior shall publish in the Federal Register notice of approved Tribal-State compacts for the purpose of engaging in Class III gaming activities on Indian lands. The Assistant Secretary—Indian Affairs, Department of the Interior, through her delegated authority, has approved the Tribal-State Compact between the Navajo Nation, a federally recognized Indian Tribe, and the State of New Mexico. This Compact is identical in substance to the 2001 New Mexico Compacts that were approved by the New Mexico Legislature by joint resolution on March 12, 2001. The Nation shall pay to the State an amount equal to 8 percent of the Net Win in return for which the State agrees that the Nation has the exclusive right within the State to conduct all types of Class III gaming, with the sole exception of the use of Gaming Machines permitted for racetracks and for veterans and fraternal organizations.

Dated: January 2, 2004.
Aurene M. Martin,
Principal Deputy Assistant Secretary—Indian Affairs.

[FR Doc. 04-1023 Filed 1-15-04; 8:45 am]

BILLING CODE 4310-4N-P